DEPARTMENT OF COMMERCE

National Oceanic and Atmospheric Administration

50 CFR Part 648

[Docket No. 030513122-3122-01; ID 050103C]

RIN 0648-AR01

Fisheries of the Northeastern United States; Atlantic Mackerel, Squid, and Butterfish Fisheries; Control Date for Loligo and Illex Squid

AGENCY: National Marine Fisheries Service (NMFS), National Oceanic and Atmospheric Administration (NOAA), Commerce.

ACTION: Advance notice of proposed rulemaking; notice of a control date for the purposes of controlling capacity in the commercial fishery for Loligo squid and discouraging speculative entry into the Illex commercial fishery.

SUMMARY: NMFS announces that it is considering and is seeking public comment on proposed rulemaking to control future access to the Illex (Illex illecebrosus) and Loligo (Loligo pealei) squid fisheries under the Magnuson-Stevens Fishery Conservation and Management Act (Magnuson-Stevens Act). This announcement is intended, in part, to discourage speculative entry and increases in effort or capacity in these fisheries while the Mid-Atlantic Fishery Management Council (Council) and NMFS consider alternative allocation schemes and whether and how to further control capacity in the Illex and Loligo fisheries. The date of publication of this document, May 20, 2003, shall be known as the “control date” and may be used for establishing eligibility criteria for determining levels of future access to the Illex and Loligo fisheries subject to Federal authority.

DATES: Written comments must be received on or before 5 p.m., local time, June 19, 2003.

ADDRESSES: Comments should be directed to Daniel T. Furlong, Executive Director, Mid-Atlantic Fishery Management Council, 300 South New Street, Dover, DE 19904-6790. Mark the outside of the envelope, “Comments on Squid Control Date.” Comments may also be sent via facsimile (fax) to (302) 674-5399. Comments will not be accepted if submitted via e-mail or Internet.

FOR FURTHER INFORMATION CONTACT: Paul H. Jones, Fishery Policy Analyst, 978-281-9273, email: Paul.H.Jones@noaa.gov.

SUPPLEMENTARY INFORMATION: In the 1990s, the simultaneous growth of the domestic squid fisheries and reduction in the estimate of sustainable yield resulted in the Illex and Loligo fisheries moving toward full capitalization and exploitation. As a result, limited entry programs became necessary and were implemented separately for each fishery in Amendment 5 to the Fishery Management Plan (FMP) (Loligo squid at 61 FR 14465, April 2, 1996 and Illex squid at 62 FR 28638, May 27, 1997).

In the case of the Illex fishery, a 5-year sunset provision was placed on the Illex moratorium when it was implemented through Amendment 5 to the FMP, due to concerns that capacity might prove to be insufficient to fully exploit the annual quota for the fishery. The sunset provision for the moratorium on entry into the Illex fishery, implemented in 1997, was set to expire in July 1, 2002. It was extended through July 1, 2003, under Framework 2 to the FMP (67 FR 44392, July 2, 2002) and is currently being considered for an additional extension through July 1, 2004, under Framework 3 to the FMP (68 FR 14571, March 26, 2003). The Council is addressing this issue through development of Amendment 9 to the FMP. However, the Council is concerned that a hiatus in the Illex limited access program could occur should the moratorium for this fishery expire before Amendment 9 is implemented. At its March 20, 2003, meeting, the Council requested that NMFS publish an advance notice of proposed rulemaking issuing this control date to discourage speculative entry into the Illex fishery, should such a hiatus occur.

In the case of the Loligo fishery, the primary issue the Council is concerned with is excess and/or latent capacity. Quota management in this fishery, in conjunction with restrictions in other fisheries, has created a derby fishery in certain quota periods of the Loligo fishery. Therefore, the Council has expressed a need to examine excess capacity and/or latent capacity in the limited entry section of this fishery. Accordingly, at its March 20, 2003, meeting, the Council requested that NMFS also publish this control date to discourage speculative activation of previously unused effort or capacity in the Loligo fishery while alternative allocation schemes and potential management regimes to control capacity or latent effort are discussed and possibly developed and implemented. The control date communicates to fishermen that performance or fishing effort after the date of publication may not be treated the same as performance or effort that was expanded before the control date. The Council could choose different and variably weighted methods to qualify fishermen based on the type and length of participation in the Loligo fishery or on the quantity of landings. The Council may also choose to take no further action to control entry or access to the Loligo fishery.

This notification establishes May 20, 2003, as the control date for potential use in determining historical or traditional participation in the Loligo and Illex fisheries. Consideration of a control date does not commit the Council to develop any particular management regime or criteria for participation in these fisheries. The Council may choose a different control date; or may choose a management program that does not make use of such a date. Any action by the Council will be taken pursuant to the requirements for FMP development established under the Magnuson-Stevens Act.

This notification also gives the public notice that interested participants should locate and preserve records that substantiate and verify their participation in the Loligo and Illex fisheries in Federal waters.

Authority: 16 U.S.C. 1801 et seq.

Dated: May 15, 2003.
John Oliver,
Deputy Assistant Administrator for Operations, National Marine Fisheries Service.

[FR Doc. 03-12648 Filed 5-19-03; 8:45 am]

BILLING CODE 3510-22-S